DEPARTMENT OF COMMERCE

International Trade Administration

Notice of Scope Rulings

AGENCY: Import Administration, International Trade Administration, Department of Commerce.

DATES: Effective Date: February 7, 2007.

SUMMARY: The Department of Commerce (the Department) hereby publishes a list of scope rulings completed between October 1, 2006, and December 31, 2006. In conjunction with this list, the Department is also publishing a list of requests for scope rulings and anticircumvention determinations pending as of December 31, 2006. We intend to publish future lists after the close of the next calendar quarter.

FOR FURTHER INFORMATION CONTACT: Alice Gibbons, AD/CVD Operations, Office 2, Import Administration, International Trade Administration, U.S. Department of Commerce, 14th Street and Constitution Avenue, NW, Washington, DC 20230; telephone: (202) 482-0498.

SUPPLEMENTARY INFORMATION:

Background

The Department's regulations provide that the Secretary will publish in the Federal Register a list of scope rulings on a quarterly basis. See 19 CFR 351.225(o). Our most recent “Notice of Scope Rulings” was published on November 13, 2006. See 71 FR 66167. The instant notice covers all scope rulings and anticircumvention determinations completed by Import Administration between October 1, 2006, and December 31, 2006, inclusive. It also lists any scope or anticircumvention inquiries pending as of December 31, 2006. As described below, subsequent lists will follow after the close of each calendar quarter.

Scope Rulings Completed Between October 1, 2006 and December 31, 2006:

Italy

A-475-059: Pressure Sensitive Plastic Tape from Italy

Requestor: Ritrama Inc.; its dual-adhesive products (3-8699, 3-8700, 3-8701 and 3-8702) are not within the scope of the dumping finding on pressure sensitive plastic tape from Italy, and its single-adhesive products (3-7464, 3-7597, 3-7600, 3-7604, 3-7701, 3-8094, 3-8545) are within the scope of the dumping finding on pressure sensitive plastic tape from Italy; December 8, 2006.

Japan

A-588-804: Ball Bearings and Parts Thereof from Japan

Requestor: Petitioner, Koyo Corporation of U.S.A.; certain of its x-ray spindle units from Japan are not within the scope of the antidumping duty order; December 14, 2006.

People's Republic of China

A-570-504: Petroleum Wax Candles from the People's Republic of China

Requestor: Avon Products, Inc.; its “Cupcake Candle” is not within the scope of the antidumping duty order; October 2, 2006.

A-570-832: Pure Magnesium from the People's Republic of China

Requestor: US Magnesium LLC; alloy magnesium extrusion billets produced in Canada by Timminco, Ltd. from pure magnesium of Chinese origin are not within the scope of the antidumping duty order; November 9, 2006.

A-570-832: Pure Magnesium from the People's Republic of China

Requestor: U.S. Magnesium LLC; pure magnesium produced in France using pure magnesium from the PRC is within the scope of the antidumping duty order; December 4, 2006.

A-570-864: Pure Magnesium in Granular Form from the People's Republic of China

Requestor: ESM Group Inc.; pure magnesium ingots from the United States, atomized in the PRC, and returned to the United States are not within the scope of the antidumping duty order; October 18, 2006.

A-570-886: Polyethylene Retail Carrier Bags from the People's Republic of China

Requestor: Consolidated Packaging LLP; the 23 plastic bags it imports are not within the scope of the antidumping duty order; October 3, 2006.

A-570-890: Wooden Bedroom Furniture from the People's Republic of China

Requestor: Tuohy Furniture Corporation; its storage towers, TV stands, coffee tables, and wood panels are not within the scope of the antidumping duty order, but its bedside tables and headboards are within the scope of the antidumping duty order; November 27, 2006.

A-570-890: Wooden Bedroom Furniture from the People's Republic of China

Requestor: American Signature, Inc.; its mirrored chests are included within the scope of the antidumping duty order; December 13, 2006.

A-570-896: Magnesium Metal from the People's Republic of China

Requestor: US Magnesium LLC; alloy magnesium extrusion billets produced in Canada by Timminco, Ltd. from pure magnesium of Chinese origin are not within the scope of the antidumping duty order; November 9, 2006.

A-570-901: Lined Paper Products from the People's Republic of China

Requestor: Bond Street Ltd.; its writing cases are not included within the scope of the antidumping duty order, and its two styles of writing tablets are included within the scope of the antidumping duty order; December 13, 2006.

Russian Federation

A-821-819: Magnesium Metal from the Russian Federation

Requestor: US Magnesium LLC; alloy magnesium extrusion billets produced in Canada by Timminco, Ltd. from pure magnesium of Russian origin are not within the scope of the antidumping duty order; November 9, 2006.

Anticircumvention Determinations Completed Between October 1, 2006 and December 31, 2006:

None.

Scope Inquiries Terminated Between October 1, 2006 and December 31, 2006:

People's Republic of China

A-570-878: Saccharin from the People's Republic of China

Requestor: PMC Specialties Group, Inc.; whether acid (insoluble) saccharin from the PRC converted in Israel into sodium saccharin, calcium saccharin or any other form of saccharin covered by the antidumping duty order is within the scope of the antidumping duty order; rescinded October 11, 2006.

A-570-890: Wooden Bedroom Furniture from the People's Republic of China

Requestor: American Signature, Inc.; whether its leather upholstered bed and microfiber upholstered bed are included within the scope of the antidumping duty order; initiated as a changed circumstances review on December 12, 2006.

Anticircumvention Inquiries Terminated Between October 1, 2006 and December 31, 2006:

None.

Scope Inquiries Pending as of December 31, 2006:

France

A-427-801: Ball Bearings and Parts Thereof from France

Requestor: The Gates Corporation; whether certain belt guide rollers are within the scope of the antidumping duty order; requested December 14, 2006.

Japan

A-588-702: Stainless Steel Butt-weld Pipe Fittings From Japan

Requestor: Kuze Bellows Kogyosho Co., Ltd.; whether its “Kuze Clean Fittings” for automatic welding are within the scope of the antidumping duty order; requested December 21, 2006.

People's Republic of China

A-570-502: Iron Construction Castings from the People's Republic of China

Requestor: A.Y. McDonald Manufacturing Company; whether its cast iron bases and upper bodies for meter boxes are within the scope of the antidumping duty order; requested July 7, 2006.

A-570-504: Petroleum Wax Candles from the People's Republic of China

Requestor: Meijer Distribution Inc.; whether its dracula, skeleton, mummy, bat, pumpkin, and ghost candles are within the scope of the antidumping duty order; requested October 24, 2006.

A-570-504: Petroleum Wax Candles from the People's Republic of China

Requestor: Lamrite West Inc., d.b.a. Darice, Inc.; whether its “Victoria Lynn Wedding Collection” wedding cake candles are within the scope of the antidumping duty order; requested October 25, 2006.

A-570-504: Petroleum Wax Candles from the People's Republic of China

Requestor: Lava Enterprises; whether its gingerbread man, gingerbread boy, and gingerbread girl candles are within the scope of the antidumping duty order; requested November 15, 2006.

A-570-504: Petroleum Wax Candles from the People's Republic of China

Requestor: FashionCraft-Excello, Inc.; whether its flip flops (pink, blue, orange, or yellow), wedding cake (white, ivory, pink or silver), baby bottle (pink or blue), pears, rubber duckie, coach (silver or gold), baby carriage (pink or blue), and teddy bear on a rocking horse (pink or blue) candles, based on the “Novelty” Exception from FashionCraft-Excello, Inc., are within the scope of the antidumping duty order; requested December 8, 2006.

A-570-846: Brake Rotors from the People's Republic of China

Requestor: Federal-Mogul Corporation; whether its brake rotors that include an Original Equipment Manufacturer (“OEM”) logo in the casting or are certified by an OEM are within the scope of the antidumping duty order; requested August 14, 2006.

A-570-848: Freshwater Crawfish Tailmeat from the People's Republic of China

Requestor: Maritime Products International; whether breaded crawfish tailmeat is within the scope of the antidumping duty order; initiated December 18, 2006.

A-570-882: Refined Brown Aluminum Oxide from the People's Republic of China

Requestor: 3M Company; whether certain semi-friable and heat-treated, specialty aluminum oxides are within the scope of the antidumping duty order; requested September 19, 2006.

A-570-890: Wooden Bedroom Furniture from the People's Republic of China

Requestor: Toys 'R Us, Inc.; whether its toy boxes are within the scope of the antidumping duty order; requested September 26, 2006.

A-570-890: Wooden Bedroom Furniture from the People's Republic of China

Requestor: Tuohy Furniture Corp.; whether wainscoting is within the scope of the antidumping duty order; requested December 12, 2006.

A-570-891: Hand Trucks from the People's Republic of China

Requestor: Ameristep Corporation, Inc.; whether its “non-typical” deer cart (product no. 7800) and its “grizzly” deer cart (product no. 9800) are within the scope of the antidumping duty order; requested November 15, 2006.

A-570-891: Hand Trucks from the People's Republic of China

Requestor: Bond Street Ltd.; whether its slide-flat cart (style no. 390009CHR) is within the scope of the antidumping duty order; requested December 8, 2006.

A-570-898: Chlorinated Isocyanurates from the People's Republic of China

Requestor: BioLab, Inc.; whether chlorinated isocyanurates originating in the PRC, that are packaged, tableted, blended with additives, or otherwise further processed in Canada before entering the U.S., are within the scope of the antidumping duty order; requested November 22, 2006.

A-570-901: Lined Paper Products from the People's Republic of China

Requestor: Avenues in Leather, Inc., whether its cases with three ring binders and folios (a.k.a. pad folios) are within the scope of the antidumping duty order; initiated November 9, 2006.

A-570-901: Lined Paper Products from the People's Republic of China

Requestor: Lakeshore Learning Materials, whether certain printed educational materials (product numbers: RR973; RR974; GG185; GG186; GG181; GG182; RR673; RR674; AA185; AA186; RR630; RR631; AA786; AA787; AA181; AA182; GG324; GG325; JJ537; JJ538; JJ342; JJ343; JJ225; JJ226; GG823; RR801ML2; AA953ML3; GG528JNL; GG381JRN; RR969; RR968; GG145; GG146; EE372; GG154; GG155; LA125; EE419; GG241JNL; AA559; AA558; AA565; AA555; EE441; EE442; EE443; EE444; EE651; EE652; EE633; EE654; JJ2206; JJ2207; JJ255; JJ258) are within the scope of the antidumping duty order; requested December 7, 2006.

Anticircumvention Rulings Pending as of December 31, 2006:

People's Republic of China

A-570-001: Potassium Permanganate from the People's Republic of China

Requestor: Specialty Products International, Inc.; whether sodium permanganate is later-developed merchandise that is circumventing the antidumping duty order; requested October 10, 2006.

A-570-504: Petroleum Wax Candles from the People's Republic of China

Requestor: National Candle Association; whether candles assembled in the United States from molded or carved articles of wax (a.k.a. wickless wax forms) from the PRC are circumventing the antidumping duty order; initiated May 11, 2006.

A-570-868: Folding Metal Tables and Chairs from the People's Republic of China

Requestor: Meco Corporation; whether the common leg table (a folding metal table affixed with cross bars that enable the legs to fold in pairs) produced in the PRC is a minor alteration that circumvents the antidumping duty order; initiated June 1, 2006.

A-570-894: Certain Tissue Paper Products from the People's Republic of China

Requestor: Seaman Paper Company; whether imports of tissue paper from Vietnam made out of jumbo rolls of tissue paper from the PRC are circumventing the antidumping duty order; initiated September 5, 2006.

Interested parties are invited to comment on the completeness of this list of pending scope and anticircumvention inquiries. Any comments should be submitted to the Deputy Assistant Secretary for AD/CVD Operations, Import Administration, International Trade Administration, 14th Street and Constitution Avenue, NW, Room 1870, Washington, DC 20230.

This notice is published in accordance with 19 CFR 351.225(o).

Dated: February 1, 2007.
Stephen J. Claeys,
Deputy Assistant Secretary for Import Administration.

[FR Doc. E7-2029 Filed 2-6-07; 8:45 am]

BILLING CODE 3510-DS-S